DEPARTMENT OF TRANSPORTATION

Federal Aviation Administration

Notice of Intent To Rule on a Land Release Request at North Central West Virginia Airport (CKB), Clarksburg, WV

AGENCY: Federal Aviation Administration (FAA) DOT.

ACTION: Notice and request for comment.

SUMMARY: The FAA is requesting public comment for a land release and sale of 5.5 acres of federally obligated airport property at North Central West Virginia Airport (CKB), Clarksburg, WV, to accommodate the construction of two (2) storage buildings and an 80 space parking lot. This acreage was originally purchased with federal financial assistance through the AIP program under Grant Agreements 3-54-0005-16-1996, and 3-54-0005-10-1993. In accordance with federal regulations, this notice is required to be published in the Federal Register 30 days before releasing the grant assurances that require the property to be used for an aeronautical purpose.

DATES: Comments must be received on or before January 25, 2018.

ADDRESSES: Comments on this application may be mailed or delivered to the following address:

Mr. Rick Rock, Airport Director, North Central West Virginia Regional Airport, 2000 Aviation Way, Bridgeport, West Virginia 26330, (304) 842-3400 and at the FAA Beckley Airports Field Office:

Matthew DiGiulian, Manager, Beckley Airports Field Office, 176 Airport Circle, Room 101, Beaver, WV 25813, (304) 252-6216

FOR FURTHER INFORMATION CONTACT: Connie Boley-Lilly, Airports Program Specialist, Beckley Airports Field Office, location listed above. (304) 252-6216 ext. 125.

The land release request for the sale and disposal of 5.5 acres of federally obligated airport property at North Central West Virginia Airport, Clarksburg, WV may be reviewed in person at the Beckley Airports Field Office located at 176 Airport Circle, Room 101 Beaver, WV 25813.

SUPPLEMENTARY INFORMATION:

The following is a brief overview of the request:

The Benedum Airport Authority has submitted a land release request seeking FAA approval for the sale and disposal of approximately 5.5 acres of federally obligated airport property, to the City of Bridgeport. The purpose of the project is for the airport to sell excess property that does not have an aeronautical use to the City. The City will use the property to construct additional needed storage for city equipment, storage of road salt, and a car wash for maintaining city vehicles. The sporting complex, which is adjacent to the airport, is in need of additional off road parking. This property will provide 80 additional parking spots.

The parcel for this project is known as Tax Map 290 Parcel 9. This property consists of 5.5 Acres with seven (7) structures. The City of Bridgeport's proposed redevelopment includes demolishing (6) six of the seven (7) structures, construction of one (1) 60′ × 160′ four (4) bay building, one (1) 156′ × 30′ twelve (12) bay garage, renovation of one (1) extant building into a car wash, and construction of an 80 space parking lot.

The 5.5 acres of land to be released was originally purchased with federal financial assistance through the AIP program under Grant Agreements 3-54-0005-16-1996 and 3-54-0005-10-1993. Therefore, the portion of the proceeds of the sale of this acreage, which is proportionate to the United States' share of the cost of acquisition of such land, will be used consistent with the requirements of 49 U.S.C. 47107(c). The remaining portion of the proceeds of the sale, is considered airport revenue, and will be used in accordance with 49 U.S.C. 47107(b) and the FAA's Policy and Procedures Concerning the Use of Airport Revenue published in the Federal Register on February 16, 1999.

The 5.5 acres to be released are part of previous purchases totaling approximately 120 acres for reasons associated with Runway Extension. The subject area to be released is located between the taxiway and West Virginia State Route 131, north of airport terminal, however, is located approximately 200 feet lower in elevation that the active runway. It is also completely segregated from the terminal area and the facilities that serve airport users, such as Terminal Parking and Fixed Base Operator (FBO) services. The elevation difference and location of the property make if unusable for aeronautical purposes. The property is not located within the RPZ, will not result in any obstructions to part 77 surfaces, and has not been identified as needed for current or future airport development in the current Airport Master Plan or ALP.

Any person may inspect the request by appointment at the FAA office address listed above. Interested persons are invited to comment. All comments will be considered by the FAA to the extent practicable.

Issued in Beaver, West Virginia.
Dated: December 14, 2017.
Matthew DiGiulian,
Manager, Beckley Airports Field Office.

[FR Doc. 2017-27675 Filed 12-22-17; 8:45 am]

BILLING CODE 4910-13-P